DEPARTMENT OF STATE

[Public Notice 10314]

Meeting of the United States-Bahrain Joint Forum on Environmental Cooperation and Request for Comments on the Meeting Agenda and the 2017-2021 Work Program

AGENCY: Department of State.

ACTION: Announcement of meeting; solicitation of comments; invitation to public session.

SUMMARY: The Department of State is providing notice that the governments of the United States and the Kingdom of Bahrain (the governments) intend to hold a Joint Forum on Environmental Cooperation (Joint Forum) and a public session in Manama, Bahrain, on March 7, 2018, pursuant to paragraphs 2-5 of the Memorandum of Understanding on Environmental Cooperation between the Governments of the United States and the Kingdom of Bahrain, which was signed September 14, 2004. During the Joint Forum, the governments will discuss how the United States and Bahrain can cooperate to protect the environment, review past bilateral environmental cooperation, and identify priority projects pursuant to the 2017-2021 Work Program on Environmental Cooperation (Work Program), approved in August 2017. The Department of State invites members of the public to submit written comments on items to include on the meeting agenda or in the 2017-2021 Work Program.

The Department of State also invites interested persons to attend a public session to learn more about the work of the Joint Forum and the new Work Program, and to provide advice or comments on its implementation.

DATES: The public session will be held on March 7, 2018. Information about the venue and time is available from the contact below. Comments on the Joint Forum meeting agenda and/or the 2017-2021 Work Program should be provided no later than March 1, 2018, to facilitate consideration.

ADDRESSES: Persons interested in attending the public session or in submitting comments and suggestions should contact Marko Velikonja, Office of Environmental Quality and Transboundary Issues, U.S. Department of State, by electronic mail at Velikonjamg@state.gov or fax at (202) 647-5947 with the subject line “United States-Bahrain Joint Forum.”

FOR FURTHER INFORMATION CONTACT: Marko Velikonja, Telephone (202) 647-4828 or email at Velikonjamg@state.gov.

SUPPLEMENTARY INFORMATION: In preparing comments, submitters are encouraged to refer to:

• 2017-2021 Plan of Action, https://www.state.gov/documents/organization/273263.pdf.

• Other useful documents are available at: https://www.state.gov/e/oes/eqt/trade/bahrain/.

Robert Wing,
Acting Director, Office of Environmental Quality and Transboundary Issues, Department of State.

[FR Doc. 2018-03593 Filed 2-21-18; 8:45 am]

BILLING CODE 4710-09-P